DEPARTMENT OF JUSTICE

Parole Commission

Sunshine Act Meeting

TIME AND DATE: 2:00 p.m. Wednesday, February 19, 2020.

PLACE: U.S. Parole Commission, 90 K Street NE, 3rd Floor, Washington, DC.

STATUS: Open.

MATTERS TO BE CONSIDERED: Approval of April, May, June, July, August, September, October, November and December 2019 minutes; Reports from the Vice Chairman, Commissioners and Senior Staff.

CONTACT PERSON FOR MORE INFORMATION: Jacqueline Graham, Staff Assistant to the Chairman, U.S. Parole Commission, 90 K Street NE, 3rd Floor, Washington, DC 20530, (202) 346-7010.

Dated: February 5, 2020.
Patricia K. Cushwa,
Acting Chairperson, U.S. Parole Commission.

[FR Doc. 2020-02666 Filed 2-6-20; 11:15 am]

BILLING CODE 4410-31-P